SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1, 2012 through May 31, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Cabot Oil & Gas Corporation, Pad ID: BunnellE P2, ABR-201205001, Bridgewater and Dimock Townships, Susquehanna County, Pa.; Consumptive Use of Up to 3.575 mgd; Approval Date: May 4, 2012.

2. Cabot Oil & Gas Corporation, Pad ID: PetersenH P1, ABR-201205002, Dimock Township, Susquehanna County, Pa.; Consumptive Use of Up to 3.575 mgd; Approval Date: May 4, 2012.

3. EXCO Resources (PA), LLC, Pad ID: Daisy Barto Unit Well Pad, ABR-201205003, Penn Township, Lycoming County, Pa.; Consumptive Use of Up to 8.000 mgd; Approval Date: May 7, 2012.

4. Chief Oil & Gas LLC, Pad ID: Ambrosius Drilling Pad #1, ABR-201205004, Wilmot Township, Bradford County, Pa.; Consumptive Use of Up to 2.000 mgd; Approval Date: May 7, 2012.

5. WPX Energy Appalachia, LLC, Pad ID: Barnhart Well Pad, ABR-201205005, Liberty Township, Susquehanna County, Pa.; Consumptive Use of Up to 4.000 mgd; Approval Date: May 7, 2012.

6. WPX Energy Appalachia, LLC, Pad ID: Coyle Well Pad, ABR-201205006, Liberty Township, Susquehanna County, Pa.; Consumptive Use of Up to 4.000 mgd; Approval Date: May 7, 2012.

7. Chief Oil & Gas LLC, Pad ID: King Drilling Pad #1, ABR-201205007, Towanda Township, Bradford County, Pa.; Consumptive Use of Up to 2.000 mgd; Approval Date: May 14, 2012.

8. Chief Oil & Gas LLC, Pad ID: Polowy Drilling Pad #1, ABR-201205008, Ulster Township, Bradford County, Pa.; Consumptive Use of Up to 2.000 mgd; Approval Date: May 14, 2012.

9. Chesapeake Appalachia, LLC, Pad ID: Hart, ABR-201205009, Wyalusing Township, Bradford County, Pa.; Consumptive Use of Up to 7.500 mgd; Approval Date: May 17, 2012.

10. Chesapeake Appalachia, LLC, Pad ID: Maris, ABR-201205010, Auburn Township, Susquehanna County, Pa.; Consumptive Use of Up to 7.500 mgd; Approval Date: May 17, 2012.

11. Seneca Resources Corporation, Pad ID: DCNR 100 Pad P, ABR-201205011, Lewis Township, Lycoming County, Pa.; Consumptive Use of Up to 4.000 mgd; Approval Date: May 18, 2012.

12. Southwestern Energy Production Company, Pad ID: O'Brien Pad, ABR-201205012, Jackson Township, Susquehanna County, Pa.; Consumptive Use of Up to 4.999 mgd; Approval Date: May 24, 2012.

13. EXCO Resources (PA), LLC, Pad ID: Kepner Unit Well Pad, ABR-201205013, Penn Township, Lycoming County, Pa.; Consumptive Use of Up to 8.000 mgd; Approval Date: May 25, 2012.

14. Chesapeake Appalachia, LLC, Pad ID: WGC, ABR-201205014, Albany Township, Bradford County, Pa.; Consumptive Use of Up to 7.500 mgd; Approval Date: May 30, 2012.

15. Chesapeake Appalachia, LLC, Pad ID: Carter, ABR-201205015, North Towanda Township, Bradford County, Pa.; Consumptive Use of Up to 7.500 mgd; Approval Date: May 30, 2012.

16. Chesapeake Appalachia, LLC, Pad ID: Iceman, ABR-201205016, Wilmot Township, Bradford County, Pa.; Consumptive Use of Up to 7.500 mgd; Approval Date: May 30, 2012.

17. Southwestern Energy Production Company, Pad ID: Marcucci_Jones Pad, ABR-201205017, Stevens Township, Bradford County, Pa.; Consumptive Use of Up to 4.999 mgd; Approval Date: May 30, 2012.

18. Southwestern Energy Production Company, Pad ID: Humbert III Pad (RU-9), ABR-201205018, New Milford Township, Susquehanna County, Pa.; Consumptive Use of Up to 4.999 mgd; Approval Date: May 30, 2012.

19. Chesapeake Appalachia, LLC, Pad ID: Shumhurst, ABR-201205019, Tuscarora Township, Bradford County, Pa.; Consumptive Use of Up to 7.500 mgd; Approval Date: May 30, 2012.

20. Southwestern Energy Production Company, Pad ID: Scarlet Oaks Pad (RU-38), ABR-201205020, New Milford Township, Susquehanna County, Pa.; Consumptive Use of Up to 4.999 mgd; Approval Date: May 30, 2012.

21. WPX Energy Appalachia, LLC, Pad ID: Moore Well Pad, ABR-201205021, Silver Lake Township, Susquehanna County, Pa.; Consumptive Use of Up to 4.000 mgd; Approval Date: May 31, 2012.

22. WPX Energy Appalachia, LLC, Pad ID: Wheeler Well Pad, ABR-201205022, Silver Lake Township, Susquehanna County, Pa.; Consumptive Use of Up to 4.000 mgd; Approval Date: May 31, 2012.

23. WPX Energy Appalachia, LLC, Pad ID: O'Reilly Well Pad, ABR-201205023, Forest Lake Township, Susquehanna County, Pa.; Consumptive Use of Up to 4.000 mgd; Approval Date: May 31, 2012.

Authority: Pub. L. 91-575, 84 Stat. 1509 et seq., 18 CFR Parts 806, 807, and 808.

Dated: August 21, 2012.
Stephanie L. Richardson,
Secretary to the Commission.

[FR Doc. 2012-22226 Filed 9-10-12; 8:45 am]

BILLING CODE 7040-01-P